DEPARTMENT OF COMMERCE

National Oceanic and Atmospheric Administration

50 CFR Part 622

[Docket No. 090225239-91023-02]

RIN 0648-AX73

Fisheries of the Caribbean, Gulf of Mexico, and South Atlantic; Reef Fish Fishery of the Gulf of Mexico; Amendment 30B Supplement

AGENCY: National Marine Fisheries Service (NMFS), National Oceanic and Atmospheric Administration (NOAA), Commerce.

ACTION: Final rule.

SUMMARY: NMFS issues this final rule to resolve an error contained in the rule to implement Amendment 30B to the Fishery Management Plan for the Reef Fish Resources of the Gulf of Mexico (FMP) prepared by the Gulf of Mexico Fishery Management Council (Council) that published in the Federal Register on November 18, 2008. The error would have implemented a restriction for the Edges seasonal-area closure that was not intended. This final rule establishes the Edges seasonal-area closure consistent with the intent of Amendment 30B.

DATES: This final rule is effective July 24, 2009.

ADDRESSES: Copies of the final regulatory flexibility analysis (FRFA) for Amendment 30B may be obtained from Peter Hood, NMFS, Southeast Regional Office, 263 13th Avenue South, St. Petersburg, FL 33701; telephone 727-824-5305; fax 727-824-5308; e-mail peter.hood@noaa.gov.

FOR FURTHER INFORMATION CONTACT: Peter Hood, 727-824-5305.

SUPPLEMENTARY INFORMATION: The reef fish fishery of the Gulf of Mexico is managed under the FMP. The FMP was prepared by the Council and is implemented through regulations at 50 CFR part 622 under the authority of the Magnuson-Stevens Fishery Conservation and Management Act (Magnuson-Stevens Act).

On April 17, 2009, NMFS published a proposed rule to correct an error contained in the rule to implement Amendment 30B and requested public comment (73 FR 17812). The error contained in the Amendment 30B rule would have implemented a longer season for the Edges seasonal-area closure that was not intended and was not supported by Amendment 30B. This final rule corrects that error and establishes the provisions applicable to the Edges seasonal-area closure consistent with the intent of Amendment 30B. The Edges seasonal-area closure prohibits fishing for any species under Council jurisdiction from January 1 through April 30 each year. This closure creates a larger contiguous area within which fishing activity and fishing mortality will be reduced. This will provide additional protection for spawning aggregations of various grouper species some of which are experiencing overfishing, benefit other reef fish undergoing overfishing, and facilitate more effective enforcement. Additional rationale for the measures contained in Amendment 30B was correctly stated in the preamble to the Amendment 30B proposed rule (73 FR 68390, November 18, 2008) and in the amendment and is not repeated here.

Comments and Responses

NMFS received one comment on the proposed rule from a recreational fisherman that was beyond the scope of this rulemaking. Therefore no response has been provided.

Change from the Proposed Rule

In § 622.2, this rule corrects a typographical error in the spelling of the species name for Caribbean queen conch. This correction is unrelated to the actions taken via Amendment 30B.

Classification

The Administrator, Southeast Region, NMFS, determined that this final rule is necessary for the conservation and management of the Gulf reef fish fishery and is consistent with the Magnuson-Stevens Act and other applicable laws.

This final rule has been determined to be not significant for purposes of Executive Order 12866.

NMFS prepared a Final Environmental Impact Statement (FEIS) for Amendment 30B. The FEIS was published on October 24, 2008 (73 FR 63470).

NMFS prepared a FRFA for Amendment 30B. The FRFA incorporates the initial regulatory flexibility analysis (FRFA), a summary of the significant issues raised by the public comments in response to the IRFA, NMFS's responses to those comments, and a summary of the analyses completed to support the actions, including the action in this rule. A summary of the FRFA is provided in the final rule for Amendment 30B published on April 16, 2008 (73 FR 68390), and is not repeated here. A copy of the full analysis is available from NMFS (see ADDRESSES).

List of Subjects in 50 CFR Part 622

Fisheries, Fishing, Puerto Rico, Reporting and recordkeeping requirements, Virgin Islands.

Dated: June 18, 2009.
Samuel D. Rauch III,
Deputy Assistant Administrator for Regulatory Programs, National Marine Fisheries Service.

For the reasons set out in the preamble, 50 CFR part 622 is amended as follows:

PART 622—FISHERIES OF THE CARIBBEAN, GULF, AND SOUTH ATLANTIC

1. The authority citation for part 622 continues to read as follows:

Authority: 16 U.S.C. 1801 et seq.

2. In § 622.2, the definition of “Caribbean queen conch or queen conch” is revised to read as follows:

§ 622.2 Definitions and acronyms.

Caribbean queen conch or queen conch means the species, Strombus gigas, or a part thereof.

3. In § 622.34, the introductory heading of paragraph (k), paragraphs (k)(2), (k)(3), and the first sentence of paragraph (k)(5) are revised and paragraph (k)(1)(iii) is added to read as follows:

§ 622.34 Gulf EEZ seasonal and/or area closures.

(k) Closure provisions applicable to the Madison and Swanson sites, Steamboat Lumps, and the Edges.

(1) * * *

(iii) The Edges is bounded by rhumb lines connecting, in order, the following points:

Point | North lat. | West long.
A | 28°51′ | 85°16′
B | 28°51′ | 85°04′
C | 28°14′ | 84°42′
D | 28°14′ | 84°54′
A | 28°51′ | 85°16′

(2) Within the Madison and Swanson sites and Steamboat Lumps, possession of Gulf reef fish is prohibited, except for such possession aboard a vessel in transit with fishing gear stowed as specified in paragraph (k)(4) of this section.

(3) Within the Madison and Swanson sites and Steamboat Lumps during November through April, and within the Edges during January through April, all fishing is prohibited, and possession of any fish species is prohibited, except for such possession aboard a vessel in transit with fishing gear stowed as specified in paragraph (k)(4) of this section. The provisions of this paragraph, (k)(3), do not apply to highly migratory species.

(5) Within the Madison and Swanson sites and Steamboat Lumps, during May through October, surface trolling is the only allowable fishing activity. * * *

[FR Doc. E9-14881 Filed 6-23-09; 8:45 am]

BILLING CODE 3510-22-S